DEPARTMENT OF TRANSPORTATION

Federal Aviation Administration

14 CFR Part 39

[Docket No. FAA-2015-4204; Directorate Identifier 2015-NM-001-AD; Amendment 39-18482; AD 2016-08-06]

RIN 2120-AA64

Airworthiness Directives; Airbus Airplanes

AGENCY: Federal Aviation Administration (FAA), Department of Transportation (DOT).

ACTION: Final rule.

SUMMARY: We are adopting a new airworthiness directive (AD) for certain Airbus Model A300 B4-600, B4-600R, and F4-600R series airplanes, and Model A300 C4-605R Variant F airplanes (collectively called Model A300-600 series airplanes), modified by a particular supplemental type certificate (STC). This AD was prompted by a report of chafing found on the overflow sensor harness of the surge tank, and subsequent contact between the electrical wiring and fuel tank structure. This AD requires a one-time inspection for damage of the outer tank overflow sensor harness, and repair if necessary. This AD also requires modification of the sensor harness. We are issuing this AD to prevent chafing of the harness and subsequent contact between the electrical wiring and fuel tank structure, which could result in electrical arcing and a fuel tank explosion.

DATES: This AD becomes effective May 18, 2016.

The Director of the Federal Register approved the incorporation by reference of certain publications listed in this AD as of May 18, 2016.

ADDRESSES: For service information identified in this final rule, contact Simmonds Precision Products, Inc., A UTC Aerospace Company, 100 Panton Road, Vergennes, VT 05491; phone 802-877-2911; fax 802-877-4444; Internet http://www.utcaerospacesystems.com. You may view this referenced service information at the FAA, Transport Airplane Directorate, 1601 Lind Avenue SW., Renton, WA. For information on the availability of this material at the FAA, call 425-227-1221. It is also available on the Internet at http://www.regulations.gov by searching for and locating Docket No. FAA-2015-4204.

Examining the AD Docket

You may examine the AD docket on the Internet at http://www.regulations.gov by searching for and locating Docket No. FAA-2015-4204; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Marc Ronell, Aerospace Engineer, Boston Aircraft Certification Office, ANE-150, FAA, 1200 District Avenue, Burlington, MA 01803; phone: 781-238-7776; fax: 781-238-7170; email: marc.ronell@faa.gov.

SUPPLEMENTARY INFORMATION:

Discussion

We issued a notice of proposed rulemaking (NPRM) to amend 14 CFR part 39 by adding an AD that would apply to certain Airbus Model A300 B4-600, B4-600R, and F4-600R series airplanes, and Model A300 C4-605R Variant F airplanes (collectively called Model A300-600 series airplanes), modified by a particular STC. The NPRM published in the Federal Register on October 23, 2015 (80 FR 64371) (“the NPRM”).

The European Aviation Safety Agency (EASA), which is the Technical Agent for the Member States of the European Union, has issued EASA Airworthiness Directive 2013-0193, dated August 23, 2013 (referred to after this as the Mandatory Continuing Airworthiness Information, or “the MCAI”), to correct an unsafe condition for all Airbus Model A300 series airplanes and all Model A300-600 series airplanes.

The MCAI corresponds to FAA AD 2015-03-03, Amendment 39-18099 (80 FR 11101, March 2, 2015) (“AD 2015-03-03”), which applies to Airbus Model A300 series airplanes and Model A300-600 series airplanes, all serial numbers, except for airplanes modified by STC ST00092BO (http://rgl.faa.gov/Regulatory_and_Guidance_Library/rgstc.nsf/0/D41C5AE8E46B4901862574900069E004?OpenDocument&Highlight=st00092bo).

In AD 2015-03-03, we explained that airplanes that have had the in-tank fuel quantity system modified by STC ST00092BO cannot accomplish the actions required by AD 2015-03-03 by using Airbus Service Bulletin A300-28-6109, Revision 01, dated December 20, 2013.

We also stated that we were considering separate rulemaking to require the procedures and compliance time specified in UTC Aerospace Systems Service Bulletin 300723-28-03 (V-1577), dated October 10, 2014, for airplanes modified by STC ST00092BO. We have determined that further rulemaking is indeed necessary, and this AD follows from that determination.

You may examine the MCAI in the AD docket on the Internet at http://www.regulations.gov by searching for and locating Docket No. FAA-2015-4204.

Comments

We gave the public the opportunity to participate in developing this AD. We have considered the comments received. The following presents the comments received on the NPRM and the FAA's response to each comment.

Request To Extend Proposed Compliance Time

FedEx asked that we extend the compliance time required by paragraph (g) of the proposed AD from 12 to 30 months. FedEx stated that AD 2015-03-03 required accomplishing the inspection and rerouting within 30 months. FedEx added that, in both AD 2015-03-03 and the NPRM, improper harness routing is the root cause of the issue, and stated that airplanes having STC ST00092BO have equal susceptibility to harness chafing damage as those identified in AD 2015-03-03. FedEx suggested that a 30-month compliance time would still provide an acceptable level of safety. FedEx added that it is expecting to wait four to six months for one of the required materials, and the availability of its installation tool has not been confirmed. FedEx also stated that a longer compliance time would allow it to minimize the operational impact and accomplish the potentially lengthy service information at C-checks.

We do not agree with the commenter's request to extend the compliance time, because the request is not supported by any analysis or supporting data. This compliance time is shorter to account for the time already elapsed for airplanes having STC ST00092BO. In developing an appropriate compliance time for the actions specified in this AD, we considered the safety implications and normal maintenance schedules for the timely accomplishment of the specified actions. We have determined that the proposed 12-month compliance time will ensure an acceptable level of safety and allow the actions to be done during scheduled maintenance intervals for most affected operators. However, affected operators may request an alternative method of compliance (AMOC) to request an extension of the compliance time under the provisions of paragraph (i) of this AD by submitting data and analysis substantiating that the change would provide an acceptable level of safety. We have not changed this AD in this regard.

Request To Increase Work Hour Estimate

FedEx stated that, although the referenced service information specifies 14 work-hours per airplane for accomplishing both actions, the number of work-hours could be closer to 24, especially if a harness is replaced.

We infer that the commenter is requesting that the work-hour estimate specified in the “Costs of Compliance” section be increased. We partially agree with the request. We provided our best estimate for the work hours based on the information received from the airplane manufacturer and specified in the referenced service information. However, we do not know the number of work-hours it would take to replace a harness, and as stated in the “Costs of Compliance” section, we have received no definitive data that would enable us to provide cost estimates for the on-condition actions. We have not changed this final rule in this regard.

Conclusion

We reviewed the relevant data, considered the comments received, and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

UTC Aerospace Systems has issued Service Bulletin 300723-28-03 (V-1577), Revision 01, dated July 20, 2015. The service information describes procedures for an inspection for damage of the outer tank of the overflow sensor harness, repair, and modification of the sensor harness. This service information is reasonably available because the interested parties have access to it through their normal course of business or by the means identified in the ADDRESSES section.

Costs of Compliance

We estimate that this AD affects 65 airplanes of U.S. registry.

We also estimate that it takes about 3 work-hours per product to comply with the inspection required by this AD. The average labor rate is $85 per work-hour. Based on these figures, we estimate the cost of this inspection required by this AD on U.S. operators to be $16,575, or $255 per product.

We estimate that it takes about 11 work-hours per product to comply with the modification requirements of this AD. The average labor rate is $85 per work-hour. Required parts cost about $100 per product. Based on these figures, we estimate the cost of this modification on U.S. operators to be $67,275, or $1,035 per product.

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-08-06 Airbus: Amendment 39-18482; Docket No. FAA-2015-4204; Directorate Identifier 2015-NM-001-AD.

(a) Effective Date

This AD becomes effective May 18, 2016.

(b) Affected ADs

None.

(c) Applicability

This AD applies to the Airbus airplanes specified in paragraphs (c)(1), (c)(2), (c)(3), and (c)(4) of this AD; certificated in any category; modified by Simmonds Precision Products, Inc., Supplemental Type Certificate (STC) ST00092BO (http://rgl.faa.gov/Regulatory_and_Guidance_Library/rgstc.nsf/0/D41C5AE8E46B4901862574900069E004?OpenDocument&Highlight=st00092bo).

(1) Model A300 B4-601, B4-603, B4-620, and B4-622 airplanes.

(2) Model A300 B4-605R and B4-622R airplanes.

(3) Model A300 F4-605R and F4-622R airplanes.

(4) Model A300 C4-605R Variant F airplanes.

(d) Subject

Air Transport Association (ATA) of America Code 28, Fuel.

(e) Reason

This AD was prompted by a report of chafing found on the overflow sensor harness of the surge tank, and subsequent contact between the electrical wiring and fuel tank structure. We are issuing this AD to prevent chafing of the harness and subsequent contact between the electrical wiring and fuel tank structure, which could result in electrical arcing and a fuel tank explosion.

(f) Compliance

Comply with this AD within the compliance times specified, unless already done.

(g) One-Time Inspection and Repair

Within 12 months after the effective date of this AD: Do the actions required by paragraphs (g)(1), (g)(2), and (g)(3) of this AD, in accordance with the Accomplishment Instructions of UTC Aerospace Systems Service Bulletin 300723-28-03 (V-1577), Revision 01, dated July 20, 2015.

(1) Perform a one-time general visual inspection for damage of the outer tank sensor harness, and if any damage is found on the expando sleeving, before further flight, do a detailed inspection of the underlying wires for exposed conductor wires. If any exposed conductor wire is found, before further flight, replace the outer wing harness assembly.

(2) Install new brackets and re-route the surge tank overflow sensor harness.

(3) Modify the harness protection.

(h) Credit for Previous Actions

This paragraph provides credit for actions required by paragraph (g) of this AD, if those actions were performed before the effective date of this AD using UTC Aerospace Systems Service Bulletin 300723-28-03 (V-1577), dated October 10, 2014. This service information is not incorporated by reference in this AD.

(i) Alternative Methods of Compliance (AMOCs)

(1) The Manager, Boston Aircraft Certification Office (ACO), ANE-150, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD.

(2) Before using any approved AMOC, notify your appropriate principal inspector, or lacking a principal inspector, the manager of the local flight standards district office/certificate holding district office.

(j) Related Information

(1) For more information about this AD, contact Marc Ronell, Aerospace Engineer, Boston Aircraft Certification Office, ANE-150, FAA, 1200 District Avenue, Burlington, MA 01803; phone: 781-238-7776; fax: 781-238-7170; email: marc.ronell@faa.gov.

(2) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) UTC Aerospace Systems Service Bulletin 300723-28-03 (V-1577), Revision 01, dated July 20, 2015.

(ii) Reserved.

(3) For service information identified in this AD, contact Simmonds Precision Products, Inc., A UTC Aerospace Company, 100 Panton Road, Vergennes, VT 05491; phone 802-877-2911; fax 802-877-4444; Internet http://www.utcaerospacesystems.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 30, 2016.
Victor Wicklund,
Acting Manager, Transport Airplane Directorate, Aircraft Certification Service.

[FR Doc. 2016-08352 Filed 4-12-16; 8:45 am]

BILLING CODE 4910-13-P